LEGAL SERVICES CORPORATION

Notice of Intent To Award—Grant Awards for the Provision of Civil Legal Services to Eligible Low-Income Clients, for Service Area NJ-18 in New Jersey, Beginning January 1, 2003

AGENCY: Legal Services Corporation.

ACTION: Announcement of intention to make FY 2003 Competitive Grant Awards.

SUMMARY: The Legal Services Corporation (LSC) hereby announces its intention to award grants and contracts to provide economical and effective delivery of high quality civil legal services to eligible low-income clients, for service area NJ-18 in New Jersey, beginning January 1, 2003.

DATES: All comments and recommendations must be received on or before the close of business on December 12, 2002.

ADDRESSES: Legal Services Corporation—Competitive Grants, Legal Services Corporation, 750 First Street NE., 10th Floor, Washington, DC 20002-4250.

FOR FURTHER INFORMATION CONTACT: Reginald Haley, Office of Program Performance, (202) 336-8827.

SUPPLEMENTARY INFORMATION: Pursuant to LSC's announcement of funding availability on June 24, 2002 (67 FR 42588), LSC proposes to award funds to Hudson County Legal Services Corporation to provide civil legal services in service area NJ-18, which comprises Bergen, Hudson, and Passaic counties. The funding amount is $1,601,604. The amount is based on the 2000 census data as discussed in LSC Program Letter 02-8. This amount is subject to change.

Grants and contracts are under the authority conferred on LSC by the Legal Services Corporation Act, as amended (42 U.S.C. 2996e(a)(1)). Awards will be made to assure that the service area is served, however, Hudson County Legal Services Corporation is not guaranteed an award or contract.

This public notice is issued pursuant to the LSC Act (42 U.S.C. 2996f(f)), with a request for comments and recommendations concerning the potential grantee within a period of thirty (30) days from the date of publication of this notice. Grants will become effective and grant funds will be distributed on or about January 1, 2003.

Dated: November 6, 2002.
Michael A. Genz,
Director, Office of Program Performance, Legal Services Corporation.

[FR Doc. 02-28665 Filed 11-8-02; 8:45 am]

BILLING CODE 7050-01-P